DEPARTMENT OF THE INTERIOR

Bureau of Ocean Energy Management, Regulation and Enforcement (BOEMRE)

[Docket ID No. BOEM-2011-0064; OMB Number 1010-0057]

Information Collection Activity: Revision for Subpart C, Pollution Prevention and Control; Submitted for Office of Management and Budget (OMB) Review; Comment Request

ACTION: 30-day notice.

SUMMARY: To comply with the Paperwork Reduction Act of 1995 (PRA), we are notifying the public that we have submitted to OMB an information collection request (ICR) to renew approval of the paperwork requirements in the regulations under Subpart C, Pollution Prevention and Control. This notice also provides the public a second opportunity to comment on the paperwork burden of these regulatory requirements.

DATES: Submit written comments by October 24, 2011.

ADDRESSES: Submit comments by either fax (202) 395-5806 or email (OIRA_DOCKET@omb.eop.gov) directly to the Office of Information and Regulatory Affairs, OMB, Attention: Desk Officer for the Department of the Interior (1010-0057). Please also submit a copy of your comments to BOEMRE by any of the means below.

• Electronically: go to http://www.regulations.gov. In the entry titled, “Enter Keyword or ID,” enter BOEM-2011-0064 then click search. Follow the instructions to submit public comments and view supporting and related materials available for this collection. BOEMRE will post all comments.

• E-mail: cheryl.blundon@boemre.gov. Mail or hand-carry comments to: Department of the Interior; Bureau of Ocean Energy Management, Regulation and Enforcement; Attention: Cheryl Blundon; 381 Elden Street, MS-4024; Herndon, Virginia 20170-4817. Please reference ICR 1010-0057 in your comment and include your name and return address.

FOR FURTHER INFORMATION CONTACT: Cheryl Blundon, Regulations and Standards Branch, (703) 787-1607. To see a copy of the entire ICR submitted to OMB, go to http://www.reginfo.gov (select Information Collection Review, Currently Under Review). You may also contact Cheryl Blundon to obtain a copy, at no cost, of the regulation that requires the subject collection of information.

SUPPLEMENTARY INFORMATION: Abstract: The Outer Continental Shelf (OCS) Lands Act, as amended (43 U.S.C. 1331 et seq. and 43 U.S.C. 1801 et seq.), authorizes the Secretary of the Interior to prescribe rules and regulations to administer leasing of mineral resources on the OCS. Such rules and regulations will apply to all operations conducted under a lease, right-of-way, or a right-of-use and easement.

Section 1332(6) states that “operations in the [O]uter Continental Shelf should be conducted in a safe manner by well-trained personnel using technology, precautions, and techniques sufficient to prevent or minimize the likelihood of blowouts, loss of well control, fires, spillages, physical obstruction to other users of the waters or subsoil and seabed, or other occurrences which may cause damage to the environment or to property, or endanger life or health.” Section 1334(a)(8) requires that regulations prescribed by the Secretary include provisions “for compliance with the National Ambient Air Quality Standards [NAAQS] pursuant to the Clean Air Act (42 U.S.C. 7401 et seq.), to the extent that activities authorized under this Act significantly affect the air quality of any State.” Section 1843(b) calls for “regulations requiring all materials, equipment, tools, containers, and all other items used on the Outer Continental Shelf to be properly color coded, stamped, or labeled, wherever practicable, with the owner's identification prior to actual use.”

This collection also incorporates an IC requirement (§ 250.304) pertaining to the Pacific Region's State air quality requirement that was inadvertently submitted to OMB previously under 30 CFR 250, subpart H (section 250.804).

Regulations implementing these responsibilities are under 30 CFR 250, Subpart C. Responses are mandatory. No questions of a sensitive nature are asked. BOEMRE will protect proprietary information according to 30 CFR 250.197, “Data and information to be made available to the public or for limited inspection,” and the Freedom of Information Act (5 U.S.C. 552) and its implementing regulations (43 CFR 2).

In general, BOEMRE uses the information collected under subpart C to ensure that:

• There is no threat of serious, irreparable, or immediate damage to the marine environment and to identify potential hazards to commercial fishing caused by OCS oil and gas exploration, development, and production activities;

• The lessee or operator records the location of items lost overboard to aid in recovery during site clearance activities on the lease;

• Operations are conducted according to all applicable regulations, permit conditions and requirements, and in a safe and workmanlike manner;

• OCS oil and gas operations are conducted in a manner that minimizes air pollution of the OCS and adjacent onshore areas and do not exceed required emission levels;

• Discharge or disposal of drill cuttings, sand, and other well solids, including those containing naturally occurring radioactive materials (NORM), are properly handled for the protection of OCS workers and the environment; and

• Facilities are inspected daily for the prevention of pollution, and problems observed are corrected.

For the Gulf of Mexico OCS Region (GOMR), this ICR also addresses the following non-routine information collection:

• The Environmental Protection Agency (EPA) promulgated National Ambient Air Quality Standards (NAAQS) for ozone, fine (i.e., < 2.5 micron) particulate matter (PM2.5), and regulations for regional haze. Air quality related information will be needed to address any new or outstanding NAAQS and regional haze regulations. In preparation for usage by States and regional planning organizations, affected respondents are required to collect and report air pollutant emissions data for OCS activities in the GOMR. This data will be used in future regional air quality modeling in support of revisions to State Implementation Plans and other air quality regulations.

In the Pacific, lessees are required to file Emergency Action Plans (EAPs) with their local air quality agencies in response to California air quality laws to protect public health during exceptional air pollution episodes.

Frequency: On occasion, daily.

Description of Respondents: Potential respondents comprise Federal oil, gas, or sulphur lessees and/or operators and states.

Estimated Reporting and Recordkeeping Hour Burden: The estimated annual hour burden for this information collection is a total of 196,547 hours. The following chart details the individual components and estimated hour burdens. In calculating the burdens, we assumed that respondents perform certain requirements in the normal course of their activities. We consider these to be usual and customary and took that into account in estimating the burden.

Citation 30 CFR 250 Subpart C and related NTL(s) | Reporting and recordkeeping requirement | Hour burden | Average number of annual responses | Annual burden hours
Pollution Prevention
300(b)(1), (2) | Obtain approval to add petroleum-based substance to drilling mud system or approval for method of disposal of drill cuttings, sand, & other well solids, including those containing NORM | Burden covered under 1010-0141 (30 CFR Part 250, Subpart D). |  | 0
300(c) | Mark items that could snag or damage fishing devices | 0.5 | 130 markings | 65
300(d) | Report and record items lost overboard | 1 hr ea × 2 = 2 | 106 reports/records | 212
Subtotal | 236 responses | 277
Inspection of Facilities
301(a) NTL | Inspect drilling/production facilities for pollution; maintain inspection/repair records 2 years | 15 min per inspection × 365 days = 91.25 | 1,022 manned facilities | ¹93,258
|  | 5 mins every 3rd day (365/3 = 122) = 10.14 hrs | 3,000 unmanned facilities | 30,420
Subtotal | 4,022 responses | 123,678
Facilities described in new or revised EP or DPP
303(a) thru (d), (i), (j); 304(a), (f) | Submit, modify, or revise Exploration Plans and Development and Production Plans; submit information required under 30 CFR Part 250, Subpart B | Burden covered under 1010-0151. |  | 0
303(k); 304(a), (g) | Collect and report air quality emissions related data (such as facility, equipment, fuel usage, and other activity information) during the calendar year 2008 for input into State and regional planning organizations modeling | 48 hrs per emission source | 1,500 sources | 72,000
303(l); 304(b)(2); 304(h) | Collect and submit meteorological data (not routinely collected—minimal burden); emission data for existing facilities to a State | 1 | 1 submittal | 1
Subtotal | 1,501 responses | 72,001
Existing Facilities
304; related NTL | Submit copy of state-required Emergency Action Plan (EAP) containing test abatement plans (Pacific OCS Region) | 1 | 1 copy | 1
304(a), (f) | Affected State may submit request to BOEMRE for basic emission data from existing facilities to update State's emission inventory | 4 | 5 requests | 20
304(e)(2) | Submit compliance schedule for application of best available control technology (BACT) | 40 | 10 schedules | 400
304(e)(2) | Apply for suspension of operations | Burden covered under 1010-0114. |  | 0
304(f) | Submit information to demonstrate that exempt facility is not significantly affecting air quality of onshore area of a State | 15 | 10 submissions | 150
Subtotal | 26 responses | 571
General
300-304 | General departure and alternative compliance requests not specifically covered elsewhere in subpart C regulations | 2 | 10 requests | 20
Subtotal | 10 responses | 20
Total Burden | 5,795 responses | 196,547
¹ Rounded.

Estimated Reporting and Recordkeeping Non-Hour Cost Burden: We have identified no paperwork non-hour cost burdens associated with the collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on June 30, 2011, we published a Federal Register notice (76 FR 38410) announcing that we would submit this ICR to OMB for approval. The notice provided the required 60-day comment period. In addition, section 250.199 provides the OMB control number for the information collection requirements imposed by the 30 CFR 250 regulations. The regulation also informs the public that they may comment at any time on the collections of information and provides the address to which they should send comments. We received two comments in response to these efforts. The first comment, submitted by a private citizen was not germane to the paperwork burden. The second comment was from the Marine Mammal Commission in support of our submittal to OMB.

Public Availability of Comments: Before including your address, phone number, email address, or other personal identifying information in your comment, you should be aware that your entire comment—including your personal identifying information—may be made publicly available at any time. While you can ask us in your comment to withhold your personal identifying information from public review, we cannot guarantee that we will be able to do so.

BOEMRE Information Collection Clearance Officer: Arlene Bajusz (703) 787-1025.

Dated: September 12, 2011.
Doug Slitor,
Acting Chief, Office of Offshore Regulatory Programs.

[FR Doc. 2011-24353 Filed 9-21-11; 8:45 am]

BILLING CODE 4310-MR-P